DEPARTMENT OF HEALTH AND HUMAN SERVICES

Administration for Children and Families

Submission for OMB Review; Comment Request

Title: Final Tribal TANF Data Report.

OMB No.: 0970-0215.

Description: 42 U.S.C. 612 (section 412 of the Social Security Act as amended by Pub. L. 104-193, the Personal Responsibility and Work Opportunity Reconciliation Act of 1996) mandates that Federally recognized Indian Tribes with an approved Tribal Temporary Assistance for Needy Families (TTANF) program, collect and submit to the Secretary of the Department of Health and Human Services, data on the recipients served by their programs. Instructions and requirements for submitting that data are the subject of this request for comments.

Respondents: Federally recognized Indian Tribes with an approved TTANF program.

Annual Burden Estimates
Instruction or requirement | Number of respondents | Number of responses per respondent | Average burden hours per response | Total burden hours
Final Tribal TANF Data Report—§ 286.30(b) | 56 | 4 | 451 | 101,024
Tribal TANF Annual Report—§ 286.55 | 56 | 1 | 40 | 2,240
Tribal TANF Reasonable Cause/Corrective Action Documentation Process—§ 286.200 | 56 | 1 | 60 | 3,360
Total Burden |  |  |  | 106,624

Additional Information: copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: May 16, 2003.
Robert Sargis,
Reports Clearance Officer.

[FR Doc. 03-12909 Filed 5-22-03; 8:45 am]

BILLING CODE 4184-01-M